ENVIRONMENTAL PROTECTION AGENCY

[ER-FRL-9034-2]

Environmental Impact Statements; Notice of Availability

Responsible Agency: Office of Federal Activities, General Information (202) 564-7146 or http://www.epa.gov/nepa.

Weekly receipt of Environmental Impact Statements (EISs)

Filed 07/03/2017 Through 07/07/2017

Pursuant to 40 CFR 1506.9.

Notice

Section 309(a) of the Clean Air Act requires that EPA make public its comments on EISs issued by other Federal agencies. EPA's comment letters on EISs are available at: http://www.epa.gov/compliance/nepa/eisdata.html.

EIS No. 20170125, Draft Supplement, BR, CA, Los Vaqueros Reservoir Expansion Project, Comment Period Ends: 09/01/2017, Contact: Lisa Rainger 916 -978-5090.

EIS No. 20170126, Final, Caltrans, CA, Interstate 5/State Route 56 Interchange Project, Review Period Ends: 08/14/2017, Contact: Shay Lynn Harrison 619-688-0190.

EIS No. 20170127, Draft, USFWS, TX, Authorization of Incidental Take and Implementation of the Barton Springs/Edwards Aquifer Conservation District Habitat Conservation Plan, Comment Period Ends: 09/14/2017, Contact: Marty Tuegel 505-248-6651.

EIS No. 20170128, Final, USFS, AK, Wrangell Island Project, Review Period Ends: 08/14/2017, Contact: Andrea Slusser 907-874-2323.

EIS No. 20170129, Final, USACE, ND, Programmatic—Mouse River Enhanced Flood Protection Project, Review Period Ends: 08/14/2017, Contact: Derek Ingvalson 651-290-5252.

Dated: July 11, 2017.
Dawn Roberts,
Management Analyst, NEPA Compliance Division, Office of Federal Activities.

[FR Doc. 2017-14826 Filed 7-13-17; 8:45 am]

BILLING CODE 6560-50-P